DEPARTMENT OF LABOR

Employment and Training Administration

[TA-W-73,668]

Swets Information Services, Operations Department, Information Technology Group, Marketing Group, Finance Group, Runnemede, NJ; Amended Certification Regarding Eligibility To Apply for Worker Adjustment Assistance

In accordance with Section 223 of the Trade Act of 1974, as amended (“Act”), 19 U.S.C. 2273, the Department of Labor issued a Certification of Eligibility To Apply for Worker Adjustment Assistance on May 18, 2010, applicable to workers of Swets Information Services, Operations Department, Runnemede, New Jersey. The notice was published in the Federal Register on June 7, 2010 (75 FR 32224). The subject workers are engaged in activities related to the supply of subscription services.

At the request of a company official, the Department reviewed the certification for workers of the subject firm. The data supplied to the Department by Swets Information Services during the investigation combined the Operations Department, Information Technology (IT) Group, Marketing Group and the Finance Group into one entity instead of identifying them separately and did not establish that workers within the IT, Marketing and Finance Groups support the Operations Department.

Accordingly, the Department is amending the certification to extend coverage to the workers of the IT, Marketing and Finance Groups who are engaged in the support of the Operations Department at the subject firm's Runnemede, New Jersey location.

The intent of the Department's certification is to include all workers of the subject firm who were adversely affected by the acquisition of subscription services from Singapore and Sri Lanka.

The amended notice applicable to TA-W-73,668 is hereby issued as follows:

“All workers of Swets Information Services, Operations Department, Information Technology Group, Marketing Group, and Finance Group, Runnemede, New Jersey, who became totally or partially separated from employment on or after March 9, 2009, through May 18, 2012, and all workers in the group threatened with total or partial separation from employment on date of certification through two years from the date of certification, are eligible to apply for adjustment assistance under Chapter 2 of Title II of the Trade Act of 1974, as amended.”

Signed in Washington, DC.
Elliott S. Kushner,
Certifying Officer, Division of Trade Adjustment Assistance.

[FR Doc. 2010-19388 Filed 8-5-10; 8:45 am]

BILLING CODE 4510-FN-P